DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of nine persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's Web site (www.treasury.gov/ofac).

Notice of OFAC Action(s)

On October 25, 2017, OFAC determined that the property and interests in property subject to U.S. jurisdiction of the following persons subject to U.S. jurisdiction are blocked under the relevant sanctions authority listed below.

Individuals

1. AL-DHUBHANI, Adil Abduh Fari Uthman (a.k.a. AL-MAKANI, Adil Abd Fari; a.k.a. AL-MALKAB, Adil Fari; a.k.a. BIN-UTHMAN, Adil Abdu Bin-Fari; a.k.a. FARI, Adil Muhammad Abdu; a.k.a. FAZI, Adil Mohammad Abdu; a.k.a. “`ADIL `ABDIH FAR'A”; a.k.a. “ABU AL-ABBAS”; a.k.a. “ADEL ABDUH FAREA'A”; a.k.a. “ADIL ABD FARI”; a.k.a. “ADIL ABDAH FARI”; a.k.a. “ADIL ABDU FAAREA”; a.k.a. “ADIL ABDU FAARI'A”; a.k.a. “ADIL ABDU FAREA”; a.k.a. “ADIL ABDU FARIA”; a.k.a. “AMIR MUMINEN”; a.k.a. “AMIR MUMININ”; a.k.a. “FARI, Abu-al-Abbas Adil Abdu”; a.k.a. “FARI, Abu-al-Abbas Adil Abduh”), Ta'izz City, Ta'izz Governorate, Yemen; Almqwat Mahtah Ahmed Sif, Taiz City, Taiz Governorate, Yemen; DOB 15 Jul 1963; alt. DOB 1971; POB Ta'izz, Yemen; nationality Yemen; Gender Male; National ID No. 01010013602 (Yemen) (individual) [SDGT] (Linked To: AL-QA'IDA IN THE ARABIAN PENINSULA; Linked To: ISIL-YEMEN).

Designated pursuant to section 1(c) of Executive Order 13224 of September 23, 2001, “Blocking Property and Prohibiting Transactions With Persons Who Commit, Threaten to Commit, or Support Terrorism” (E.O. 13224), for being owned or controlled by, or acting for or on behalf of, AL-QA'IDA IN THE ARABIAN PENINSULA, a person whose property and interests in property are blocked pursuant to E.O. 13224.

Also designated pursuant to section 1(d)(ii) of E.O. 13224 for assisting in, sponsoring, or providing financial, material, or technological support for, or financial or other services to or in support of, AL-QA'IDA IN THE ARABIAN PENINSULA and ISIL-YEMEN, persons whose property and interests in property are blocked pursuant to E.O. 13224.

2. AL-ADANI, Abu Sulayman (a.k.a. ABU-SULAYMAN, Nashwan al-Adani; a.k.a. AL-ADANI, Nashwan; a.k.a. AL-ADANI, Sulayman; a.k.a. AL-HASHIMI, Abu Ma'ali; a.k.a. AL-SAY'ARI, Muhammad Ahmed; a.k.a. AL-SAY'ARI, Muhammad Qan'an; a.k.a. AL-SAY'ARI, Nashwan; a.k.a. MUTHANA, Mohsen Ahmed Saleh; a.k.a. MUTHANNA, Muhsin Ahmad Salah; a.k.a. QAN'AN, Muhammad Salih Muhammad; a.k.a. “AL-MUHAJIR, Abu Usama”), Yemen; DOB 13 Jan 1988; Gender Male; Passport 05867398 (Yemen); alt. Passport 04988639 (Jordan) (individual) [SDGT] (Linked To: ISIL-YEMEN).

Designated pursuant to section 1(c) of E.O. 13224 of September 23, 2001, for being owned or controlled by, or acting for or on behalf of, ISIL-YEMEN, a person whose property and interests in property are blocked pursuant to E.O. 13224.

3. AL-HAYASHI, Sayf Abdulrab Salem (a.k.a. AL-BAYDANI, Sayf; a.k.a. AL-BAYDANI, Sayf Husayn `Abd-al-Rabb; a.k.a. AL-BHADANI, Saif; a.k.a. AL-BIDHANI, Sayf; a.k.a. AL-HAYASHI, Sayf `Abd-al-Rab Salim; a.k.a. AL-HAYYASHI, Sayf `Abd-al-wali `Abd-al-rub), At Takhtit Ministry Marab Jawlat Ayat Street, Yemen; Azzan, Abyan Governorate, Yemen; DOB 01 Jan 1978; nationality Yemen; Gender Male; National ID No. 01010003969 (Yemen) (individual) [SDGT] (Linked To: AL-QA'IDA IN THE ARABIAN PENINSULA).

Designated pursuant to section 1(c) of E.O. 13224 for assisting in, sponsoring, or providing financial, material, or technological support for, or financial or other services to or in support of, AL-QA'IDA IN THE ARABIAN PENINSULA, a person whose property and interests in property are blocked pursuant to E.O. 13224.

4. AL-MARFADI, Khalid (a.k.a. AL-YAFI'I, Abu Anas; a.k.a. AL-YAFI'I, Khalid Abdallah Salah Ahmad Hussayn al-'Umari al-Marfadi), al-Bayda' Governorate, Yemen; al-Sharafa', al-Qurayshiyah District, al-Bayda' Governorate, Yemen; al-Wuhayshi Village, Az Zahir District, al Bayda' Governorate, Yemen; Marfad Village, Marfad District, Yafia, Yemen; DOB 1966; Gender Male (individual) [SDGT] (Linked To: ISIL-YEMEN).

Designated pursuant to section 1(c) of E.O. 13224 for being owned or controlled by, or acting for or on behalf of, ISIL-YEMEN, a person whose property and interests in property are blocked pursuant to E.O. 13224.

Also designated pursuant to section 1(d)(ii) of E.O. 13224 for assisting in, sponsoring, or providing financial, material, or technological support for, or financial or other services to or in support of, ISIL-Yemen, a person whose property and interests in property are blocked pursuant to E.O. 13224.

5. AL-YAFI'I, Nashwan al-Wali (a.k.a. AL-YAFI'I, Nishwan al-Wali; a.k.a. AL-YAFI'I, Wali Nashwan), Yafi' District, Lahij Governorate, Yemen; DOB 1984; Gender Male (individual) [SDGT] (Linked To: ISIL-YEMEN).

Designated pursuant to section 1(c) of E.O. 13224 for being owned or controlled by, or acting for or on behalf of, ISIL-YEMEN, a person whose property and interests in property are blocked pursuant to E.O. 13224.

6. AL-UBAYDI, Khalid Sa'id Ghabish (a.k.a. AL-UBAYDI, Khalid Sa'id Ghubaysh; a.k.a. “UBAYDI, Abu-Amr”), Hadramawt Governorate, Yemen; DOB 1984 to 1986; POB United Arab Emirates; Gender Male (individual) [SDGT] (Linked To: ISIL-YEMEN).

Designated pursuant to section 1(c) of E.O. 13224 for being owned or controlled by, or acting for or on behalf of, ISIL-YEMEN, a person whose property and interests in property are blocked pursuant to E.O. 13224.

7. AL-WAFI, Bilal Ali Muhammad (a.k.a. AL-WAFI, Bilal; a.k.a. AL-WAFI, Bilal `Ali; a.k.a. AL-WARAFI, 'Ali 'Abbad Muhammad; a.k.a. “ABU AL-WALEED”; a.k.a. “ABU AL-WALID”), Ta'izz Governorate, Yemen; DOB 1986 to 1989; POB Ta'izz Governorate, Yemen; Gender Male (individual) [SDGT] (Linked To: AL-QA'IDA IN THE ARABIAN PENINSULA).

Designated pursuant to section 1(c) of E.O. 13224 for being owned or controlled by, or acting for or on behalf of, AL-QA'IDA IN THE ARABIAN PENINSULA, a person whose property and interests in property are blocked pursuant to E.O. 13224.

8. QANAN, Radwan Muhammad Husayn Ali (a.k.a. AL-ADANI, Abu `Abd al-Rahman; a.k.a. AL-NAQAZ, Basil Muhsin Ahmad; a.k.a. KANAN, Radwan; a.k.a. KANNA, Radwan), Aden, Yemen; al-Tawilah, Kraytar District, Aden, Yemen; DOB 07 Sep 1975; alt. DOB 1982; POB Abyan Governorate, Khanfar, Al-Rumilah, Yemen; Gender Male (individual) [SDGT] (Linked To: ISIL-YEMEN).

Designated pursuant to section 1(c) of E.O. 13224 for being owned or controlled by, or acting for or on behalf of, ISIL-YEMEN, a person whose property and interests in property are blocked pursuant to E.O. 13224.

Entity

1. AL KHAYR SUPERMARKET (a.k.a. AL-KHAIR MARKET), Fuwwah, south of Mukalla, Hadramawt Governorate, Yemen [SDGT] (Linked To: AL-HAYASHI, Sayf Abdulrab Salem).

Designated pursuant to section 1(c) of E.O. 13224 for being owned or controlled by, or acting for or on behalf of, AL-HAYASHI, Sayf Abdulrab Salem, a person whose property and interests in property are blocked pursuant to E.O. 13224.

Dated: October 25, 2017.
John E. Smith,
Director, Office of Foreign Assets Control.

[FR Doc. 2017-23529 Filed 10-27-17; 8:45 am]

BILLING CODE 4810-AL-P